DEPARTMENT OF AGRICULTURE

Rural Business-Cooperative Service

Notice of Funds Availability Under the Rural Business Enterprise Grant Program To Provide Technical Assistance for Rural Transportation Systems

AGENCY: Rural Business-Cooperative Service, USDA.

ACTION: Notice.

SUMMARY: The Rural Business-Cooperative Service announces that the funds available under the Rural Business Enterprise Grant (RBEG) Program to provide Technical Assistance for Rural Transportation Systems are $499,000 for one single grant from the passenger transportation funds appropriated for the RBEG program and $249,767 for another single grant for Federally Recognized Native American Tribes' from funds appropriated for the RBEG program.

SUPPLEMENTARY INFORMATON: A Notice of Solicitation of Applications for Inviting Rural Business Enterprise Grant Program Applications for Grants To Provide Technical Assistance for Rural Transportation Systems was published on January 20, 2011 (76 FR 3605-8).

Federal Funding Accountability and Transparency Act

All applicants, in accordance with 2 CFR part 25, must have a Dun and Bradstreet Data Universal Number System (DUNS) number, which can be obtained at no cost via a toll-free request line at 1-866-705-5711 or online at http://fedgov.dnb.com/webor. Similarly, in accordance with 2 CFR part 25, all applicants must be registered in the Central Contractor Registration (CCR) prior to submitting an application. Applicants may register for the CCR at http://www.ccr.gov, or by calling 1-866-606-8220 and press “1” for CCR. All recipients of Federal financial assistance are required to report information about first-tier sub-awards and executive total compensation in accordance with 2 CFR part 170.

Nondiscrimination Statement

“The U.S. Department of Agriculture (USDA) prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD).

To file a complaint of discrimination write to USDA, Director, Office of Adjudication and Compliance, 1400 Independence Avenue, SW., Washington, DC 20250-9410 or call (800) 795-3272 (voice) or (202) 720-6382 (TDD). USDA is an equal opportunity provider, employer, and lender.”

Dated: July 5, 2011.
Judith A. Canales,
Administrator, Rural Business-Cooperative Service.

[FR Doc. 2011-17760 Filed 7-14-11; 8:45 am]

BILLING CODE 3410-XY-P